UNIFIED CARRIER REGISTRATION PLAN

Sunshine Act Meeting Notice; Unified Carrier Registration Plan Board of Directors Meeting

TIME AND DATE: January 28, 2021, from Noon to 3:00 p.m., Eastern time.

PLACE: This meeting will be accessible via conference call and screen sharing. Any interested person may call 877-853-5247 (US toll free), 888-788-0099 (US toll free), +1 929-205-6099 (US toll), or +1 669-900-6833 (US toll), Conference ID 981 5574 7617, to participate in the meeting.

STATUS: This meeting will be open to the public.

MATTERS TO BE CONSIDERED: The Unified Carrier Registration Plan Board of Directors (the “Board”) will continue its work in developing and implementing the Unified Carrier Registration Plan and Agreement. The subject matter of the meeting will include:

Agenda

I. Welcome and Call to Order—UCR Board Chair

The UCR Board Chair will welcome attendees, call the meeting to order, call roll for the Board, confirm the presence of a quorum, and facilitate self-introductions.

II. Verification of Meeting Notice—UCR Executive Director

The UCR Executive Director will verify publication of the meeting notice on the UCR website and distribution to the UCR contact list via email followed by subsequent publication of the notice in the Federal Register.

III. Review and Approval of Board Agenda—UCR Board Chair

For Discussion and Possible Action.

Agenda will be reviewed and the Board will consider adoption.

Ground Rules

Board actions taken only in designated areas on agenda

IV. Approval of Minutes of the December 10, 2020 UCR Board Meeting—UCR Board Chair

For Discussion and Possible Action.

Draft Minutes of the December 10, 2020 UCR Board meeting will be reviewed. The Board will consider action to approve.

V. Re-Appointment and Appointment of UCR Board Members—UCR Board Chair and UCR Executive Director

For Discussion and Possible Action.

There are five members of the UCR Board of Directors whose terms expire on May 31, 2021. Four of these Directors have requested re-appointment for additional three-year terms. The remaining Director is willing to continue to serve until a successor is appointed. In addition, one Director from among the chief administrative officers of the state agencies responsible for overseeing administration of the UCR Agreement who is from the Federal Motor Carrier Service Administration's Midwestern service area has tendered her resignation from the UCR Board effective February 19, 2021. The UCR Board will discuss re-appointments and appointments to the UCR Board for these positions and may take action to approve candidates for recommendation to the United States Department of Transportation.

VI. Update on UCR Meeting Schedule for 2021—UCR Executive Director

The UCR Executive Director will provide an update on the scheduled Board and Subcommittee meetings for 2021.

VII. Report of FMCSA—FMCSA Representative

The Federal Motor Carrier Safety Administration (FMCSA) will provide a report on any relevant activity.

VIII. Updates Concerning UCR Legislation—UCR Board Chair

The UCR Board Chair will call for any updates regarding UCR legislation since the last Board meeting.

IX. Chief Legal Officer Report—UCR Chief Legal Officer

The UCR Chief Legal Officer will provide an update on the status of the March 2019 data event, the Twelve Percent Logistics litigation, cease and desist letters sent to third party permitting service providers, and other matters.

X. Subcommittee Reports

Audit Subcommittee—UCR Audit Subcommittee Chair

A. Next Steps Regarding the 2019 Audit Deficiencies by Idaho and Utah—UCR Audit Subcommittee Chair

The UCR Audit Subcommittee Chair will discuss with the Board next steps regarding the 2019 Audit Deficiencies of Idaho and Utah.

B. UCR Auditor Coordinator—UCR Audit Subcommittee Chair

For Discussion and Possible Action.

The UCR Audit Subcommittee Chair will lead a discussion regarding the MCS-150 retreat audit program provided by UCR and the progress made with participating states. States may opt into the program. States will remain engaged in the audit process but may have a lesser burden of having to attend to unresponsive/unproductive retreat audits.

C. NRS Testing—Penetration and Vulnerability Testing—UCR Technology Manager

The UCR Technology Manager will discuss plans to conduct a protocol of tests of the National Registration System (NRS) to ensure that appropriate measures are taken to resist unwanted attacks against the NRS. A highly experienced and qualified contractor has been selected to provide the appropriate testing.

Finance Subcommittee—UCR Finance Subcommittee Chair

A. Certificate of Deposit Maturing on February 5, 2021—UCR Depository Manager

For Discussion and Possible Action.

The UCR Depository Manager will discuss the CD maturing on February 5, 2021 and outline potential re-investment opportunities to the Board. The UCR Board may take action to re-invest the funds.

B. Review UCR Bank Balance Summary Report—UCR Depository Manager

The UCR Depository Manager will review the UCR Bank Balance Summary Report as of December 31, 2020 and answer questions from the Board.

C. Review 2020 Administrative Expenses Through December 31, 2020—UCR Depository Manager

The UCR Depository Manager will present the administrative costs incurred for the period of January 1, 2020 through December 31, 2020, compared to the budget for the same time-period, and discuss all significant variances.

D. Status of 2020 and 2021 Registration Years Fee Collections and Compliance Percentages—UCR Depository Manager

The UCR Depository Manager will provide updates on the results of collections and registration compliance rates for the 2020 and 2021 registration years.

Education and Training Subcommittee—UCR Education and Training Subcommittee Chair

• Update on Basic Audit Training Module and Flow Chart/Decision Tree—UCR Education and Training Subcommittee Chair

The UCR Education and Training Subcommittee Chair will provide an update on the development of the Basic Audit Training Module and Flow Chart/Decision Tree.

XI. Contractor Reports—UCR Executive Director

• UCR Executive Director

The UCR Executive Director will provide a report covering recent activity for the UCR Plan.

• DSL Transportation Services, Inc.

DSL Transportation Services, Inc. will report on the latest data from the FARs program, discuss motor carrier inspection results, and other matters.

• Seikosoft

Seikosoft will provide an update on recent/new activity related to the NRS.

• UCR Administrator Report (Kellen)—UCR Operations and Depository Managers

The UCR Staff will provide its management report covering recent activity for the Depository, Operations, and Communications.

XII. Other Business—UCR Board Chair

The UCR Board Chair will call for any business, old or new, from the floor.

XIII. Adjournment—UCR Board Chair

The UCR Board Chair will adjourn the meeting.

This agenda will be available no later than 5:00 p.m. Eastern time, January 21, 2021 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2021-01650 Filed 1-22-21; 4:15 pm]

BILLING CODE 4910-YL-P